DEPARTMENT OF TRANSPORTATION

Federal Highway Administration

Notice of Final Federal Agency Actions on Proposed Highway in North Carolina

AGENCY: Federal Highway Administration (FHWA), DOT.

ACTION: Notice of limitations on claims for judicial review of actions by FHWA and other Federal agencies.

SUMMARY: This notice announces actions taken by FHWA that are final agency actions within the meaning of 23 U.S.C. 139 (I)(1). These final agency actions relate to a proposed highway project, U.S. 64 Improvements—Asheboro, Randolph County, North Carolina from just east of SR 1424 (Stutts Road) to U.S. 64 east of U.S. 64/Presnell Street, where the Record of Decision (ROD) identifies Alternative 29 as the selected alternative, as it is the Least Environmentally Damaging Practicable Alternative (LEDPA). The Abbreviated Final Environmental Impact Statement (FEIS) was approved and published by FHWA in March, 2007 and a ROD was issued on December 6, 2007. FHWA selects Alternative 29 in the ROD based on public and resource agency input, including the North Carolina Department of Transportation. Selecting Alternative 29 is in the best overall public interest because it was identified as the LEDPA, it avoids controversial and serious neighborhood impacts of other alternative analyzed, has the fourth fewest number of stream crossings, affects the smallest area of wetlands, has the fourth lowest noise receiver impacts of the nine alternatives considered, is supported by local governments including the city of Asheboro, and is supported by many citizens.

DATES: By this notice, the FHWA is advising the public of final agency actions subject to 23 U.S.C. 139 (I)(1). A claim seeking judicial review of the Federal agency actions on the highway project will be barred unless the claim is filed on or before June 23, 2008. If the Federal law that authorizes judicial review of a claim provides a time period of less than 180 days for filing such claim, then that shorter time period still applies.

FOR FURTHER INFORMATION CONTACT: Clarence W. Coleman, P. E., Operations Engineer, Federal Highway Administration, 310 New Bern Avenue, Ste 410, Raleigh, North Carolina, 27601-1418; Telephone: (919) 747-7014; e-mail: clarence.coleman@fhwa.dot.gov. FHWA North Carolina Division Office's normal business hours are 8 a.m. to 5 p.m. (Eastern Time). You may also contact Gregory J. Thorpe, Ph.D., Project Development and Environmental Analysis Branch Manager, North Carolina Department of Transportation (NCDOT), 1 South Wilmington Street (Delivery), 1548 Mail Service Center, Raleigh, North Carolina 27699-1548; Telephone (919) 733-3141, gthorpe@dot.state.nc.us. NCDOT—Project Development and Environmental Analysis Branch Office's normal business hours are 8 a.m. to 5 p.m. (Eastern Time).

SUPPLEMENTARY INFORMATION: Notice is hereby given that the FHWA has taken final agency action subject to 23 U.S.C. 139 (l)(1) by issuing a decision for the following highway project in the State of North Carolina: U.S. 64 Improvements, Federal Aid No. NHF-64(19), Randolph County, North Carolina. This project identified a need to address capacity constraints and safety considerations on the current U.S. 64 in Asheboro, North Carolina. The proposed action will improve 14 miles of U.S. Highway 64 from just east of SR 1424 (Stutts Road) to 0.6 miles east of SR 2345 (Presnell Street). The selected alternative (Alternative 29) constructs a four-lane, median divided facility with full access control on new location as well as a two-lane parkway facility known as the Zoo Connector. The actions by the Federal agencies, and the laws under which such actions were taken, are described in the Abbreviated Final Environmental Impact Statement (FEIS) for the project, approved on May 12, 2007, in the FHWA Record of Decision (ROD) issued on December 6, 2007, and in other documents in the FHWA administrative record. The FEIS, ROD, and other documents in the FHWA administrative record file are available by contacting the FHWA or NCDOT at the addresses provided above. The FHWA FEIS and ROD can be viewed at the NCDOT—Project Development and Environmental Analysis Branch, 1 South Wilmington Street, Raleigh, North Carolina; NCDOT—Division 8 Construction Engineer Office, 902 N. Sandhills Blvd., Aberdeen, North Carolina; Randolph County Public Library, 201 Worth Street, Asheboro, North Carolina; Randolph County Planning & Zoning Department, 204 East Academy Street, Asheboro, North Carolina; Randolph County School System, 2222 South Fayetteville Street, Asheboro, North Carolina; City of Asheboro Planning Department, 146 North Church Street, Asheboro, North Carolina; City of Asheboro Engineering Department, 146 North Church Street, Asheboro, North Carolina and Asheboro/Randolph Chamber of Commerce, 317 Dixie Drive, Asheboro, North Carolina. This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536], Marine Mammal Protection Act [16 U.S.C. 1361], Anadromous Fish Conservation Act [16 U.S.C. 757(a)-757(g)], Fish and Wildlife Coordination Act [16 U.S.C. 661-667(d)], Migratory Bird Treaty Act [16 U.S.C. 703-712], Magnuson-Stevenson Fishery Conservation and Management Act of 1976, as amended [16 U.S.C. 1801 et seq.].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Land and Water Conservation Fund (LWCF) [16 U.S.C. 4601-4604]; Safe Drinking Water Act (SDWA) [42 U.S.C. 300(f)-300(j)(6)]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139 (I)(1).

Issued on: December 18, 2007.
Clarence W. Coleman,
Operations Engineer, Raleigh, North Carolina.

[FR Doc. E7-24923 Filed 12-21-07; 8:45 am]

BILLING CODE 4910-RY-P